DEPARTMENT OF HEALTH AND HUMAN SERVICES

Food and Drug Administration

Peripheral and Central Nervous System Drugs Advisory Committee Meeting; Cancellation

AGENCY: Food and Drug Administration, HHS.

ACTION: Notice.

SUMMARY: The Food and Drug Administration (FDA) is cancelling the meeting of the Peripheral and Central Nervous System Drugs Advisory Committee scheduled for February 15, 2002. The meeting was announced in the Federal Register of January 22, 2002 (67 FR 2891 to 2892).

FOR FURTHER INFORMATION CONTACT: Sandra Titus, Center for Drug Evaluation and Research (HFD-21), Food and Drug Administration, 5600 Fishers Lane, Rockville, MD 20857, 301 827-7001, or FDA Advisory Committee Information Line, 1-800-741-8138 (301-443-0572 in the Washington, DC area), code 12543.

Dated: February 6, 2002.
Bonnie H. Malkin,
Acting Senior Associate Commissioner for Communications and Constituent Relations.

[FR Doc. 02-3372 Filed 2-11-02; 8:45 am]

BILLING CODE 4160-01-S